DEPARTMENT OF THE INTERIOR

Bureau of Indian Affairs

DEPARTMENT OF HEALTH AND HUMAN SERVICES

Indian Health Service

Renewal of Agency Information Collection for Indian Self-Determination and Education Assistance Contracts

AGENCIES: Bureau of Indian Affairs, Department of the Interior, and Indian Health Service, Department of Health and Human Services.

ACTION: Notice of request for comments.

SUMMARY: The Department of the Interior and the Department of Health and Human Services announce a request for comments concerning renewal of OMB Control Number 1076-0136, the Information Collection Request used for Indian Self-Determination and Education Assistance actions. The information collection will be used to process contracts, grants or cooperative agreements for award by the Bureau of Indian Affairs and the Indian Health Service as authorized by the Indian Self-Determination and Education Assistance Act, as amended, and as set forth in 25 CFR part 900. The Department of the Interior and the Department of Health and Human Services invite comment on the information collection described below.

DATES: Interested persons are invited to submit comments on or before June 23, 2006.

ADDRESSES: If you wish to comment, you may submit your comments to Terry Parks, Office of Tribal Services, Bureau of Indian Affairs, Department of the Interior, 1951 Constitution Avenue, NW., Mail Stop 320-SIB, Washington, DC 20240. You may telefax comments on this information collection to (202) 208-5113. You may also hand deliver written comments or view comments at the same address.

FOR FURTHER INFORMATION CONTACT: Terry Parks, (202) 513-7625. You may obtain a copy of this information collection document at no charge by a written request to the same address, by telefaxing a request to the above number, or by calling (202) 513-7625. Please identify the information collection by the number 1076-0136.

SUPPLEMENTARY INFORMATION: The Department of the Interior and the Department of Health and Human Services developed a joint rule, 25 CFR part 900, to implement section 107 of the Indian Self-Determination and Education Assistance Act, as amended, and Title I, Public Law 103-413, the Indian Self-Determination Contract Reform Act of 1994. Section 107(a)(2)(A)(ii) of the Indian Self-Determination Contract Reform Act requires the joint rule to permit contracts and grants to be awarded to Indian tribes without the unnecessary burden or confusion associated with two sets of rules and information collection requirements when there is a single program legislation involved.

The information requirements for this joint rule differ from those of other agencies. Both the Bureau of Indian Affairs and the Indian Health Service let contracts for multiple programs, whereas other agencies usually award single grants to tribes. Under the Indian Self-Determination and Education Assistance Act, as amended, and the Indian Self-Determination Contract Reform Act of 1994, tribes are entitled to contract and may renew contracts annually with the Bureau of Indian Affairs and the Indian Health Service, whereas other agencies provide grants on a discretionary or competitive basis.

The proposal and other supporting documentation identified in this information collection are used by the Department of the Interior and the Department of Health and Human Services to determine applicant eligibility, evaluate applicant capabilities, protect the service population, safeguard Federal funds and other resources, and permit the Federal agencies to administer and evaluate contract programs. Tribal governments or tribal organizations provide the information by submitting Public Law 93-638 contract or grant proposals to the appropriate Federal agency. No third-party notification or public disclosure burden is associated with this collection.

Request for Comments

The Department of the Interior and the Department of Health and Human Services request comments on this information collection concerning:

(1) The necessity of the information collection for the proper performance of the agencies' functions;

(2) Whether this information collection duplicates a collection elsewhere by the Federal Government;

(3) Whether the burden estimate is accurate or could be reduced using technology available to all respondents;

(4) If the quality of the information requested ensures its usefulness to the agencies; and

(5) If the instructions are clear and easily understood, leading to the least burden on the respondents.

Please note that an agency may not sponsor or request, and an individual need not respond to, a collection of information unless it has a valid OMB Control Number.

It is our policy to make all comments available to the public for review at the location listed in the ADDRESSES section, room 320-SIB, during the hours of 8 a.m. to 4:30 p.m., EST Monday through Friday except for legal holidays. If you wish to have your name and/or address withheld, you must state this prominently at the beginning of your comments. We will honor your request according to the requirements of the law. All comments from organizations or representatives will be available for review. We may withhold comments from review for other reasons.

Information Collection Abstract

OMB control number: 1076-0136.

Type of review: Renewal.

Title: Indian Self-Determination and Education Assistance Act Programs, 25 CFR 900.

Brief Description: Each respondent is required to respond from 1 to 12 times per year, depending upon the number of programs it contracts from the Bureau of Indian Affairs and Indian Health Service. In addition, each subpart concerns information collection for different parts of the contracting process. For example, subpart C relates to initial contract proposal contents. Information collection for subpart C would be unnecessary when contracts are renewed. Subpart F describes minimum standards for the management systems used by Indian tribes or tribal organizations under these contracts. Subpart G addresses the negotiability of all reporting and data requirements in the contract.

Respondents: Tribes or tribal organizations.

Total number of respondents: 550.

Estimated number of responses: 5507.

Estimated annual burden: 191,174 hours.

Dated: April 14, 2006.
Debbie L. Clark,
Acting Principal Deputy Assistant Secretary—Indian Affairs, Department of the Interior.
Dated: February 17, 2006.
Mary Lou Stanton,
Deputy Director, Indian Health Policy, Department of Health and Human Services.

[FR Doc. 06-3829 Filed 4-21-06; 8:45 am]

BILLING CODE 4310-4J-P